NATIONAL SCIENCE FOUNDATION

Advisory Committee for International Science and Engineering; Notice of Meeting

In accordance with Federal Advisory Committee Act (Pub. L. 92-463, as amended), the National Science Foundation announces the following meeting:

Name: Advisory Committee for International Science and Engineering (#25104).

Date/Time: April 19, 2010—8:30 a.m. to 5 p.m.

April 20, 2010—8:30 a.m. to 12 p.m.

Place: National Science Foundation, 4121 Wilson Boulevard, Room 555, Arlington, VA.

Type of Meeting: Open.

Contact Person: Edward Murdy, National Science Foundation, 4121 Wilson Boulevard, Arlington, VA 22230 (703) 292-8710.

If you are attending the meeting and need access to the NSF, please contact the individual listed above so your name may be added to the building access list.

Purpose of Meeting: To provide advice on the programs and activities of the Office of International Science and Engineering.

Agenda

April 19, 2010

AM: Introductions and Updates—Presentation and Discussion of 2010 activities.

PM: Presentation and Discussion—Meet with NSF Director; Committee Discussion.

April 20, 2010

AM: Presentation and Discussion—Activities and initiatives for the coming year. Planning for the next meeting.

Dated: March 16, 2010.
Susanne Bolton,
Committee Management Officer.

[FR Doc. 2010-6097 Filed 3-18-10; 8:45 am]

BILLING CODE 7555-01-P